DEPARTMENT OF TRANSPORTATION

Federal Motor Carrier Safety Administration

[Docket No. FMCSA-2024-0091]

Agency Information Collection Activities; Approval of a New Information Collection Request: Quantitative Data on Commercial Motor Vehicle Drivers Safety Belt Usage

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. This notice announces that FMCSA intends to use quantitative data collection techniques through a self-administered online survey to understand commercial motor vehicle (CMV) drivers' perceptions and behaviors regarding safety belt usage and road safety. Four comments were received from the public in response to the 60-day Federal Register notice.

DATES: Comments on this notice must be received on or before December 23, 2024.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Brian Ronk, Marketing Specialist, Office of Outreach and Education, DOT, FMCSA, West Building 6th Floor, 1200 New Jersey Avenue SE, Washington, DC 20590-0001; (202) 366-1072; Brian.Ronk@dot.gov.

SUPPLEMENTARY INFORMATION:

Title: Online Survey on Safety Belt Usage of Commercial Motor Vehicle Drivers.

OMB Control Number: 2126-00XX.

Type of Request: New ICR.

Respondents: Commercial motor vehicle drivers residing in the United States.

Estimated Number of Respondents: 1,060.

Estimated Time per Response: 10 minutes.

Expiration Date: This is a new ICR.

Frequency of Response: Other—The survey will be conducted over a three-to-four-week period.

Estimated Total Annual Burden
Category of respondent | Number of respondents | Participation time (minutes) | Burden (hours)
Pre-testing survey instrument | 10 | 10 | 1.66
Piloting the survey | 50 | 10 | 8.33
Self-administered survey | 1,000 | 10 | 166.66
Totals | 1,060 | 10 | 176.65

Background

Existing data on the usage of safety belts and perceptions related to road safety do not capture the diversity of different types of CMV drivers in a post-coronavirus disease 2019 pandemic landscape. Understanding safety belt usage and perceptions of road safety among CMV drivers will assist FMCSA in gauging emerging trends among this cohort and will inform future messaging and communication efforts targeting CMV drivers.

Eligible participants are self-identified CMV drivers residing in the United States with internet access. The collection is an online voluntary survey, with a low burden for respondents and a low cost for the Federal Government. The collection is non-controversial and does not raise issues of concern to other Federal agencies. The results are not intended to be disseminated to the public, and the information gathered will not be used for the purpose of substantially informing influential policy decisions. The collection is targeted to the solicitation of opinions from respondents who have experience with the program or may have experience with the program in the future. Personally identifiable information (PII) is not being collected. There are no gifts or payment incentives (e.g., money or reimbursement of expenses, a token of appreciation) being provided to participants.

The following public comments were received in response to the 60-day Federal Register notice, which was published on June 13, 2024 (89 FR 50402):

FMCSA received four public comments in response to the 60-day notice regarding the proposed survey on safety belt usage by commercial motor vehicle drivers. Three comments provided personal perspectives on safety belt use and broader reflections on safety belt mandates. One comment questioned the need and cost of the survey and whether a Federal law on safety belt usage is intended because of the survey's proposed data collection.

In reply to this comment, the data collected in the proposed survey will help FMCSA identify attitudes and behaviors related to safety belt usage among commercial motor vehicle drivers. The data gained from this undertaking will inform targeted communication strategies directed at commercial motor vehicle drivers related to safety belt use compliance. FMCSA develops and enforces regulations to ensure safety on the nation's highways but does not have the authority to create Federal laws. The proposed study's overall cost is less than thirty-six thousand dollars.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator, Office of Research and Registration.

[FR Doc. 2024-27270 Filed 11-20-24; 8:45 am]

BILLING CODE 4910-EX-P